DEPARTMENT OF JUSTICE

[OMB Number 1123-0014]

Agency Information Collection Activities; Proposed eCollection eComments Requested; Revision of a Previously Approved Collection; Application for Certificate of Pardon for Simple Possession of Marijuana

AGENCY: Office of the Pardon Attorney, Department of Justice.

ACTION: 60-Day notice.

SUMMARY: The Office of the Pardon Attorney, Department of Justice (DOJ), will be submitting the following information collection request to the Office of Management and Budget (OMB) for review and approval in accordance with the Paperwork Reduction Act of 1995.

DATES: Comments are encouraged and will be accepted for 60 days until April 2, 2024.

FOR FURTHER INFORMATION CONTACT: If you have additional comments especially on the estimated public burden or associated response time, suggestions, or need a copy of the proposed information collection instrument with instructions or additional information, please contact Kira Gillespie, Deputy Pardon Attorney, Office of the Pardon Attorney, 950 Pennsylvania Avenue NW, Main Justice—RFK Building, Washington, DC 20530; uspardon.attorney@usdoj.gov; 202-616-6070.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The President issued a Proclamation on Granting Pardon for the Offense of Simple Possession Marijuana (Proclamation) on October 6, 2022. In that proclamation, he directed the Attorney General, acting through the Pardon Attorney, to develop procedures to “administer and effectuate the issuance of certificates of pardon to eligible applicants . . . . as soon as reasonably practicable.” The Proclamation specifically commands the Pardon Attorney to “develop and announce application procedures.” Accordingly, the Pardon Attorney had developed the subject form to collect information from potential pardon recipients, which was granted full approval under OMB Number 0123-0014, on September 5, 2023.

On December 22, 2023, the President issued a second proclamation that broadened the pardon to additional persons convicted of simple possession of marijuana under Federal or D.C. code law.

The second proclamation expanded the statutes of conviction eligible for a pardon, the circumstances under which eligible persons have been pardoned, and the time frame covered by the pardon. Consequently, the number of persons eligible to apply for a certificate proving the pardon has also increased.

Importantly, there is virtually no change to the burden that an individual applicant will incur: the application continues to ask applicants to confirm that the petitioner is U.S. citizen or lawful permanent resident who was lawfully in the country at the time the marijuana offense occurred; information regarding their current citizenship status, and if naturalized, the date or if a lawful permanent resident, the date that status was attained; the alien registration or citizenship number of a lawful permanent resident or naturalized citizen applicant; information regarding the specific court in which the applicant was charged or convicted and the date of said conviction, if any; information regarding the applicant's race, gender, and ethnicity; identifying information regarding the applicant's date and place of birth; and documentation of the applicant's charge or convictions.

The information collected from the Certificate Application will primarily be used to determine whether the applicant qualifies for pardon under the terms of the Proclamation. The information may also be used to provide statistical analysis of the demographics of pardon recipients and applicants.

Overview of This Information Collection

1. Type of Information Collection: Revision of a previously approved collection.

2. The Title of the Form/Collection: Application for Certificate of Pardon for Simple Possession of Marijuana.

3. The agency form number, if any, and the applicable component of the Department sponsoring the collection: There is no agency form number for this collection. The applicable component within the Department of Justice is the Office of the Pardon Attorney.

4. Affected public who will be asked or required to respond, as well as the obligation to respond: Affected Public: Individuals or households. The obligation to respond is voluntary.

5. An estimate of the total number of respondents and the amount of time estimated for an average respondent to respond: Available information suggests that the new proclamation has approximately doubled the potential applicant pool. However, the review of the applications received within a 10-month time frame indicates that 1,500 applicants annually is a reasonable projection. We estimate an average of 120 minutes for each applicant to respond to the collection.

6. An estimate of the total annual burden (in hours) associated with the collection: Considering the above projected figures, we estimate hours of annual burden to the public.

7. An estimate of the total annual cost burden associated with the collection, if applicable: $0.

Total Burden Hours
Activity | Number of respondents | Frequency | Total annual responses | Time per response | Total annual burden (hours)
Application | 1,500 | 1/annually | 1,500 | 2 hrs | 3,000
Unduplicated Totals | 1,500 |  | 1,500 |  | 3,000

If additional information is required contact: Darwin Arceo, Department Clearance Officer, United States Department of Justice, Justice Management Division, Policy and Planning Staff, Two Constitution Square, 145 N Street NE, 4W-218, Washington, DC.

Dated: January 30, 2024.
Darwin Arceo,
Department Clearance Officer for PRA, U.S. Department of Justice.

[FR Doc. 2024-02133 Filed 2-1-24; 8:45 am]

BILLING CODE 4410-29-P